Title 3—

The President

Proclamation 7452 of June 26, 2001

Suspension of Entry as Immigrants and Nonimmigrants of Persons Responsible for Actions That Threaten International Stabilization Efforts in the Western Balkans, and Persons Responsible for Wartime Atrocities in That Region

By the President of the United States of America

A Proclamation

The United States has a vital interest in assuring peace and stability in Europe. In the Western Balkans, the United States is engaged, together with North Atlantic Treaty Organization Allies, the Organization for Security and Cooperation in Europe, United Nations missions, the European Union, and other international organizations in an effort to achieve peace, stability, reconciliation, and democratic development and to facilitate the region's integration into the European mainstream. The United States views full implementation of the Dayton Peace Accords in Bosnia and United Nations Security Council Resolution 1244 in Kosovo as critical to these efforts.

In furtherance of these objectives, the United States has provided military, diplomatic, financial, and logistical support to international institutions established in the region and to civil and security authorities. The United States has a direct and significant interest in the success of such initiatives and in the safety of personnel involved in them, including numerous United States military and Government officials.

In light of these objectives, I have determined that it is in the interests of the United States to restrict the entry into the United States of persons responsible for actions that threaten international stabilization efforts in the Western Balkans region, and of persons responsible for wartime atrocities committed in that region since 1991.

NOW, THEREFORE, I, GEORGE W. BUSH, President of the United States of America, by the authority vested in me by the Constitution and laws of the United States, including section 212(f) of the Immigration and Nationality Act of 1952, as amended (8 U.S.C. 1182(f)), and section 301 of title 3, United States Code, hereby find that the unrestricted immigrant and nonimmigrant entry into the United States of persons described in section 1 of this proclamation would, except as provided for in sections 2 and 3 of this proclamation, be detrimental to the interests of the United States. I therefore hereby proclaim that:

Section 1. The immigrant and nonimmigrant entry into the United States of the following persons is hereby suspended:

(a) Persons who, through violent or other acts: (i) seek to obstruct the implementation of the Dayton Peace Accords (the “Dayton Agreements”) or United Nations Security Council Resolution 1244 of June 10, 1999; (ii) seek to undermine the authority or security of the United Nations Interim Administration Mission in Kosovo, the international security presence in Kosovo known as the Kosovo Force, the Office of the High Representative in Bosnia and Herzegovina, the international security presence in Bosnia known as the Stabilization Force, the Organization for Security and Cooperation in Europe, the International Criminal Tribunal for the former Yugoslavia, or other international organizations and entities present in the region pursuant to the Dayton Agreement or United Nations Security Council resolutions, including but not limited to Resolutions 827, 1031, and 1244; (iii) seek to intimidate or to prevent displaced persons or refugees from returning to their places of residence in any area or state of the Western Balkans region; or (iv) otherwise seek to undermine peace, stability, reconciliation, or democratic development in any area or state of the Western Balkans region.

(b) Persons who are responsible for directing, planning, or carrying out wartime atrocities, including but not limited to acts in furtherance of “ethnic cleansing,” committed in any area or state of the Western Balkans region since 1991.

Sec. 2. Section 1 of this proclamation shall not apply with respect to any person otherwise covered by section 1 where entry of such person would not be contrary to the interest of the United States.

Sec. 3. Persons covered by sections 1 and 2 of this proclamation shall be identified by the Secretary of State or the Secretary's designee, in his or her sole discretion, pursuant to such procedures as the Secretary may establish under section 5 of this proclamation.

Sec. 4. Nothing in this proclamation shall be construed to derogate from United States Government obligations under applicable international agreements.

Sec. 5. The Secretary of State shall have responsibility for implementing this proclamation pursuant to such procedures as the Secretary may establish.

Sec. 6. This proclamation is effective immediately and shall remain in effect until such time as the Secretary of State determines that it is no longer necessary and should be terminated, either in whole or in part. The Secretary of State shall advise the Attorney General of such determination, which shall become effective upon publication in the Federal Register.

IN WITNESS WHEREOF, I have hereunto set my hand this twenty-sixth day of June, in the year of our Lord two thousand one, and of the Independence of the United States of America the two hundred and twenty-fifth.

B

[FR Doc. 01-16667

Filed 6-28-01; 11:33 am]

BILLING CODE 3195-01-P